DEPARTMENT OF COMMERCE

International Trade Administration

[A-570-956]

Certain Seamless Carbon and Alloy Steel Standard, Line, and Pressure Pipe from the People's Republic of China: Amended Preliminary Determination of Sales at Less Than Fair Value

AGENCY: Import Administration, International Trade Administration, Department of Commerce.

EFFECTIVE DATE: May 28, 2010.

SUMMARY: The Department of Commerce (“Department”) has determined that it made certain significant ministerial errors in the preliminary determination of sales at less than fair value in the antidumping duty investigation of certain seamless carbon and alloy steel standard, line, and pressure pipe (“seamless pipe”) from the People's Republic of China (“PRC”). As a result, we are amending our preliminary determination to correct certain significant ministerial errors with respect to the antidumping duty margins for a mandatory respondent and for exporters eligible for a separate rate.

FOR FURTHER INFORMATION CONTACT: Magd Zalok, Import Administration, International Trade Administration, U.S. Department of Commerce, 14th Street and Constitution Avenue, NW, Washington, DC 20230; telephone: (202) 482-4162.

SUPPLEMENTARY INFORMATION: On April 28, 2010, the Department published its affirmative preliminary determination in this proceeding. See Certain Seamless Carbon and Alloy Steel Standard, Line, and Pressure Pipe From the People's Republic of China: Preliminary Determination of Sales at Less Than Fair Value, Affirmative Preliminary Determination of Critical Circumstances, in Part, and Postponement of Final Determination, 75 FR 22372 (April 28, 2010) (“Preliminary Determination”). On May 3, 2010, Tianjin Pipe (Group) Corporation and Tianjin Pipe International Economic and Trading Corporation (collectively “TPCO”) submitted ministerial error allegations with respect to the margin calculations for TPCO in the Preliminary Determination, alleging certain errors in conversion, arithmetic, and surrogate value calculations. No other interested party submitted ministerial error allegations. After reviewing TPCO's allegations, we have determined that the Preliminary Determination contains ministerial errors. We agree that the ministerial errors are “significant” as that term is defined in 19 CFR 351.224(g). Therefore, pursuant to 19 CFR 351.224(e), we have made changes to the Preliminary Determination.

Scope of Investigation

The merchandise covered by this investigation is certain seamless carbon and alloy steel (other than stainless steel) pipes and redraw hollows, less than or equal to 16 inches (406.4 mm) in outside diameter, regardless of wall-thickness, manufacturing process (e.g., hot-finished or cold-drawn), end finish (e.g., plain end, beveled end, upset end, threaded, or threaded and coupled), or surface finish (e.g., bare, lacquered or coated). Redraw hollows are any unfinished carbon or alloy steel (other than stainless steel) pipe or “hollow profiles” suitable for cold finishing operations, such as cold drawing, to meet the American Society for Testing and Materials (“ASTM”) or American Petroleum Institute (“API”) specifications referenced below, or comparable specifications. Specifically included within the scope are seamless carbon and alloy steel (other than stainless steel) standard, line, and pressure pipes produced to the ASTM A-53, ASTM A-106, ASTM A-333, ASTM A-334, ASTM A-335, ASTM A-589, ASTM A-795, ASTM A-1024, and the API 5L specifications, or comparable specifications, and meeting the physical parameters described above, regardless of application, with the exception of the exclusion discussed below. Specifically excluded from the scope of the investigation are unattached couplings. The merchandise covered by the investigation is currently classified in the Harmonized Tariff Schedule of the United States (``HTSUS'') under item numbers: 7304.19.1020, 7304.19.1030, 7304.19.1045, 7304.19.1060, 7304.19.5020, 7304.19.5050, 7304.31.6050, 7304.39.0016, 7304.39.0020, 7304.39.0024, 7304.39.0028, 7304.39.0032, 7304.39.0036, 7304.39.0040, 7304.39.0044, 7304.39.0048, 7304.39.0052, 7304.39.0056, 7304.39.0062, 7304.39.0068, 7304.39.0072, 7304.51.5005, 7304.51.5060, 7304.59.6000, 7304.59.8010, 7304.59.8015, 7304.59.8020, 7304.59.8025, 7304.59.8030, 7304.59.8035, 7304.59.8040, 7304.59.8045, 7304.59.8050, 7304.59.8055, 7304.59.8060, 7304.59.8065, and 7304.59.8070.

Although the HTSUS subheadings are provided for convenience and customs purposes, our written description of the merchandise subject to this scope is dispositive.

Ministerial-Error Allegations

A ministerial error is defined as an error in addition, subtraction, or other arithmetic function, clerical error resulting from inaccurate copying, duplication, or the like, and any other similar type of unintentional error which the Secretary considers ministerial. See 19 CFR 351.224(f). A significant ministerial error is defined as a ministerial error, the correction of which, singly or in combination with other errors, (1) would result in a change of at least five absolute percentage points in, but not less than 25 percent of, the weighted-average dumping margin calculated in the original (erroneous) preliminary determination; or (2) would result in a difference between a weighted-average dumping margin of zero or de minimis and a weighted-average dumping margin of greater than de minimis or vice versa. See 19 CFR 351.224(g).

After reviewing the ministerial error allegations submitted by TPCO in its May 3, 2010, submission, the Department agrees that some of the errors alleged by TPCO are ministerial errors within the meaning of 19 CFR 351.224(f), and that these errors are significant pursuant to 19 CFR 351.224(e). We are amending the Preliminary Determination to correct these ministerial errors. See the “Ministerial Error Memorandum, Amended Preliminary Determination of Sales at Less Than Fair Value: Certain Seamless Carbon and Alloy Steel Standard, Line, and Pressure Pipe from the People's Republic of China,” dated concurrently with this Federal Register notice, for a discussion of the ministerial error allegations. See also Appendix I for a list of the ministerial error allegations.

The collection of bonds or cash deposits and suspension of liquidation will be revised accordingly and parties will be notified of this determination, in accordance with section 733(d) and (f) of the Act.

Amended Preliminary Determination

As a result of our correction of significant ministerial errors in the Preliminary Determination, we have determined that the following weighted-average dumping margin applies:

Tianjin Pipe International Economic and Trading Corporation | 22.67%
Produced by:Tianjin Pipe (Group) Corporation
Xigang Seamless Steel Tube Co., Ltd. | 57.30%
Produced by: Xigang Seamless Steel Tube Co., Ltd., and Wuxi Seamless Special Pipe Co., Ltd.
Jiangyin City Changjiang Steel Pipe Co., Ltd. | 57.30%
Produced by: Jiangyin City Changjiang Steel Pipe Co., Ltd.
Pangang Group Chengdu Iron & Steel Co., Ltd. | 57.30%
Produced by: Pangang Group Chengdu Iron & Steel Co., Ltd.
Yangzhou Lontrin Steel Tube Co., Ltd. | 57.30%
Produced by: Yangzhou Lontrin Steel Tube Co., Ltd.
Yangzhou Chengde Steel Tube Co., Ltd. | 57.30%
Produced by: Yangzhou Chengde Steel Tube Co., Ltd.

International Trade Commission Notification

In accordance with section 733(f) of the Act, we have notified the International Trade Commission (“ITC”) of our amended preliminary determination. If our final determination is affirmative, the ITC will determine before the later of 120 days after the date of the preliminary determination or 45 days after our final determination whether the domestic industry in the United States is materially injured, or threatened with material injury, by reason of imports, or sales (or the likelihood of sales) for importation, of the subject merchandise.

This determination is issued and published in accordance with sections 733(f) and 777(i)(1) of the Act and 19 CFR 351.224(e).

Dated: May 21, 2010.
Ronald K. Lorentzen,
Deputy Assistant Secretary for Import Administration.

Appendix I

Issue 1: Whether the Department correctly added freight costs to the surrogate value for water.

Issue 2: Whether the Department correctly deducted the value of by-products from the calculation of the normal value.

Issue 3: Whether the Department correctly added rail freight to the value of ferromanganese.

Issue 4: Whether the Department correctly applied the appropriate price corresponding to the type of blast furnace pellets used by TPCO.

Issue 5: Whether the Department used the correct currency conversion for the inputs of EMAG, TEFRRO, MCARBON, and LCFERRO.

Issue 6: Whether the Department correctly valued steel billets.

Issue 7: Whether the Department's calculations correctly considered the weight of the green pipe caps.

Issue 8: Whether the Department should adjust the adverse facts available rate applied to TPCO's U.S. affiliate's downstream sales.

[FR Doc. 2010-12960 Filed 5-27-10; 8:45 am]

BILLING CODE 3510-DS-S